DEPARTMENT OF EDUCATION

Final Priority: Disability Rehabilitation Research Project—Burn Model Systems Centers

AGENCY: Office of Special Education and Rehabilitative Services, Department of Education.

ACTION: Notice.

Overview Information

CFDA Number: 84.133A-3.

Final priority; National Institute on Disability and Rehabilitation Research (NIDRR)—Disability and Rehabilitation Research Projects and Centers Program—Disability Rehabilitation Research Project (DRRP)—Burn Model Systems Centers.

SUMMARY: The Assistant Secretary for Special Education and Rehabilitative Services announces a priority for the Disability and Rehabilitation Research Projects and Centers Program administered by the National Institute on Disability and Rehabilitation Research (NIDRR). Specifically, this notice announces a priority for Burn Model Systems (BMS) Centers. The Assistant Secretary may use this priority for a competition in fiscal year (FY) 2012 and later years. We take this action to focus research attention on areas of national need.

DATES: Effective Date: This priority is effective July 20, 2012.

FOR FURTHER INFORMATION CONTACT: Lynn Medley, U.S. Department of Education, 400 Maryland Avenue SW., Room 5140, Potomac Center Plaza (PCP), Washington, DC 20202-2700. Telephone: (202) 245-7338 or by email: lynn.medley@ed.gov.

If you use a telecommunications device for the deaf (TDD) or a text telephone (TTY), call the Federal Relay Service (FRS), toll free, at 1-800-877-8339.

SUPPLEMENTARY INFORMATION: This notice of final priority (NFP) is in concert with NIDRR's currently approved Long-Range Plan (Plan). The Plan, which was published in the Federal Register on February 15, 2006 (71 FR 8165), can be accessed on the Internet at the following site: www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

This notice announces a final priority that NIDRR intends to use for a DRRP competition in FY 2012 and possibly later years. However, nothing precludes NIDRR from publishing additional priorities, if needed. Furthermore, NIDRR is under no obligation to make an award for this priority. The decision to make an award will be based on the quality of applications received and available funding.

Purpose of Program

The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

Disability and Rehabilitation Research Projects (DRRPs)

The purpose of DRRPs, which are funded under NIDRR's Disability and Rehabilitation Research Projects and Centers Program, is to improve the effectiveness of services authorized under the Rehabilitation Act of 1973, as amended, by developing methods, procedures, and rehabilitation technologies that advance a wide range of independent living and employment outcomes for individuals with disabilities, especially individuals with the most severe disabilities. DRRPs carry out one or more of the following types of activities, as specified and defined in 34 CFR 350.13 through 350.19: Research, training, demonstration, development, dissemination, utilization, and technical assistance. Additional information on DRRPs can be found at: http://www2.ed.gov/rschstat/research/pubs/res-program.html#DRRP.

Program Authority: 29 U.S.C. 762(g) and 764(a).

Applicable Program Regulations: 34 CFR part 350.

We published a notice of proposed priority for the Burn Model Systems Centers program in the Federal Register on March 7, 2012 (77 FR 13582). That notice contained background information and our reasons for proposing the particular priority.

Public Comment: In response to our invitation in the notice of proposed priority, 12 parties submitted comments on the proposed priority.

Generally, we do not address technical and other minor changes. In addition, we do not address general comments that raised concerns not directly related to the proposed priority.

Analysis of Comments and Changes: An analysis of the comments and of any changes in the priority since publication of the notice of proposed priority follows.

Comment: None.

Discussion: Upon further review of the text of the priority, we determined that it would be helpful to describe what the BMS database is.

Changes: We have added a footnote to paragraph (b) of the priority to clarify that the BMS database is a centralized database through which BMS Centers have collected and contributed information on common data elements on outcomes of individuals since 1998. The BMS database is maintained through a separate NIDRR-funded grant for a National Data and Statistical Center for the BMS.

Comment: Five commenters provided recommendations regarding the implementation of activities under paragraph (b) of the priority, which requires the assessment of long-term outcomes of individuals with burn injury by enrolling at least 30 subjects per year into the BMS database. These commenters suggested that NIDRR revise the priority to:

(a) Specify a ratio of adults to children (e.g. 2:1) to be enrolled per BMS Center in the national database;

(b) Require that the BMS Center budget two full-time equivalents (FTE) to carry out the activities required under paragraph (b);

(c) Require that the BMS Center conduct all data collection in accordance with BMS standard operating procedures and best-practices;

(d) Require the BMS Center to conduct annual follow-up assessments rather than 5-year-follow-up assessments;

(e) Increase the minimum number of persons to be enrolled per center;

(f) Increase funding for adding assessments beyond 10 years post injury because it requires a substantial increase in data collection effort over the requirements of previous BMS Center competitions; and

(g) Specify that the BMS longitudinal database include a measure of physical functioning.

Discussion: NIDRR acknowledges that significant effort will be required by BMS Centers to maintain the quality of the BMS database and to increase its research utility by extending follow-up assessments beyond 10 years post injury. With regard to the comment requesting that NIDRR define the ratio of adults to children in the BMS database, we decline to establish a ratio for the priority because we believe it is more appropriate to allow projects to make this determination on their own. We expect BMS project directors to make this determination based on the characteristics of the patient populations that they serve.

In response to comment (b) requesting that NIDRR require individual BMS Centers to budget two FTE to carry out the activities required under paragraph (b) of the priority, we note that individual centers are in the best position to determine the staffing structure they will require to carry out their database responsibilities under the priority. NIDRR does not believe it is appropriate to require a specific allocation of staff resources for this purpose. This is particularly true given that the level of effort for the database responsibilities will differ depending on the number of database participants that a Center may have recruited into the BMS database during previous cycles of the program.

NIDRR agrees with the comment that all BMS Centers should conduct data collection in accordance with BMS standard operating procedures and best practices, as approved by NIDRR and the BMS project directors. For this reason, we are revising paragraph (b) of the priority to clarify that grantees will follow the standard operating procedures and practices established by the BMS project directors in conjunction with the National Data and Statistical Center for the BMS.

In response to the comments requesting that NIDRR increase funding to support the requirement in paragraph (b) of the priority that grantees conduct assessments beyond 10 years post injury, we note that the funding levels for the BMS Centers in fiscal year (FY) 2012 will be consistent with funding levels of previous awards made under this program and we believe that this funding is adequate to support the long-term data collection activities required under this priority. We believe the funding is adequate because NIDRR is not requiring, as part of this priority, that BMS Centers propose and conduct a collaborative module research project (a requirement included in previous BMS Centers program competitions). Thus, grantees under this priority will have a greater amount of total funding to support the increased data collection activities. That said, we do not believe that the funding levels allocated for this program are sufficient to support an increase in the frequency of follow-up assessments, or an increase in the minimum number of persons to be enrolled in the database by each center, as recommended by some commenters.

Finally, with regard to the comment that we include a measure of physical functioning in the BMS database, we decline to make this change to the requirement without the input of the BMS project directors. We believe it is more appropriate to allow the group of BMS project directors to determine whether they will incorporate a measure of physical functioning into the database.

Change: We have added language in paragraph (b) of the priority to clarify that grantees will follow the standard operating procedures and practices established by the BMS project directors in conjunction with National Data and Statistical Center for the BMS.

Comment: Two commenters requested clarification regarding the Note following paragraph (b) of the priority, which addresses budgeting for the activities of the BMS database under this program. Specifically, the commenters asked whether NIDRR will specify one funding level for grantees that have already enrolled patients in the BMS database and a different funding level for grantees that have no patients yet enrolled.

Discussion: We do expect funding levels to differ depending on the number of participants for which BMS Centers will need to collect follow-up data to meet the requirements of paragraph (b) of the priority. All BMS Centers funded under this competition are responsible for collecting follow-up data from subjects who will be enrolled in the grant cycle that begins in FY 2012. To the extent a grantee under a competition using this priority was previously funded under the BMS program, that grantee must also, as part of this grant, collect follow-up data from subjects who were enrolled in the BMS database in previous grant cycles. For this reason, NIDRR requests that each applicant under this priority initially budget for the activities required under paragraph (b) based on the number of follow-up assessments it expects to conduct during the project period. Final budgets for successful applicants will be negotiated with NIDRR prior to the grant award. The range of possible grant awards under this priority is specified in the notice inviting applications for the FY 2012 BMS competition, which is published elsewhere in this issue of the Federal Register.

Changes: We have added language to the Note that follows paragraph (b) of the priority, to provide more information about how grant award amounts are to be determined, within the range of possible grant awards that is specified in the notice inviting applications.

Comment: One commenter recommended that we revise paragraph (c) of the priority, which requires each BMS Center to propose and conduct at least one, but no more than two, site-specific research projects, so that each BMS Center is required to test interventions as part of its site-specific research project or projects.

Discussion: Paragraph (c) of the proposed priority would have required each BMS Center to test innovative approaches to treating burn injury or to assess outcomes of individuals with burn injury. In light of the comment, we believe that this language may have been unnecessarily restrictive. While NIDRR acknowledges the importance of testing innovative treatment approaches, we also acknowledge the continuing need for knowledge about the experiences and outcomes of individuals with burn injury that results from other types of research, including but not limited to, descriptive research, exploratory research, and measures development, all of which could contribute to development of innovative interventions. For this reason, we have broadened the language in paragraph (c) to clarify that applicants may propose interventions research and descriptive research, exploratory research, measures development, or other types of research that can contribute to the development of interventions for site-specific projects.

Change: NIDRR has revised paragraph (c) of the priority to state that applicants must propose and conduct at least one, but no more than two, site-specific research projects to test interventions for treating burn injury or to conduct other types of research, including but not limited to, descriptive research, exploratory research, or measures development that can contribute to development or measurement of interventions. Site-specific research projects must contribute to outcomes in one or more domains identified in the Plan: health and function, community living and participation, technology, and employment.

Comment: Two commenters requested clarification regarding the role of the BMS National Data and Statistical Center (BMS National Data Center) in the BMS Center's site-specific research projects required under paragraph (c) of the priority. In particular, the commenters asked whether the BMS National Data Center would be available to provide statistical consultation to the BMS Centers to assist them with the site-specific research projects and whether it could house data for the BMS Centers' site specific research projects.

Discussion: The BMS National Data Center priority, which will be announced in a separate notice in the Federal Register, does require the BMS National Data Center to make statistical and other methodological consultation available for site-specific research projects being conducted by the BMS Centers. However, the BMS National Data Center priority does not require the BMS National Data Center to house data collected during the BMS Centers' site-specific research projects. Accordingly, the BMS Centers will need to negotiate with the BMS National Data Center, if they want to house their site-specific research projects with the BMS National Data Center.

Changes: None.

Comment: Two commenters requested clarification regarding the Note that follows paragraph (c) of the priority, which allows for collaboration as needed for site-specific research projects. The commenters requested clarification about three issues: (1) Whether collaborators must be other BMS Centers; (2) whether the priority allows for the identification of proposed collaborators within the application submitted for the Department's review; and, (3) whether a site-specific project could be a multi-site study.

Discussion: BMS Center applicants may propose to collaborate with third parties in order to conduct the site-specific research projects required under paragraph (c) of the priority. These collaborating entities may be, but are not required to be, other NIDRR-funded BMS Centers. To the extent an applicant plans to collaborate with others in the site-specific research projects it proposes, it may identify potential collaborators in its application, if so desired. The site-specific projects proposed by applicants under this priority can be multi-site studies that are managed and administered by the proposed BMS Center.

Changes: None.

Comment: Two commenters requested guidance regarding paragraph (d) of the priority, which requires the grantee to coordinate with the NIDRR-funded Model Systems Knowledge Translation Center (MSKT Center). The commenters asked NIDRR to indicate the level of effort it expected applicants to budget for these knowledge translation activities.

Discussion: NIDRR allows applicants the flexibility to determine the budget required to implement these activities.

Changes: None.

Comment: Three commenters noted potential synergies between the BMS database, and the database maintained by the American Burn Association (ABA). One of these commenters recommended that NIDRR revise the priority to require the BMS Centers to collaborate with the ABA to facilitate synergies between the BMS and ABA databases. The other two commenters discussed the potential for a collaboration between the BMS and the ABA to produce common data elements related to long-term outcomes of burn survivors. These two commenters noted that such collaboration with the ABA could help make the NIDRR BMS Centers' measurement of long-term outcomes more “mainstream” outside of the Burn Model Systems program.

Discussion: NIDRR agrees with the commenters that collaboration between the BMS Centers and the ABA may lead to improved outcomes of the BMS database and important synergies between the BMS and ABA databases. At the program level, NIDRR personnel and BMS project directors have facilitated a relationship between the BMS Centers and the ABA in past grant cycles. In the coming grant cycle, NIDRR will continue to facilitate this relationship, which will include discussions toward common, long-term data elements in both databases. NIDRR believes that synergies between the BMS program's database and the ABA database can best be achieved at the program level—between the network of NIDRR BMS Centers and the ABA. Such a relationship will not be facilitated via multiple grant applicants individually seeking a collaborative relationship with the ABA.

Changes: None.

Comment: Six commenters posed questions regarding paragraph (e) of the proposed priority, which specified that the grantee should spend $5,000 towards the costs of a state-of-the-science conference. One commenter asked whether the specified dollars could be used for travel to the conference and dissemination of information following the conference. Another commenter asked whether the specified amount included indirect costs associated with the conference. Other commenters recommended that NIDRR specify in the priority the timeframe for holding the conference and that the themes of the conference be on quality of care, patient satisfaction, and long-term patient outcomes. Finally, one commenter asked whether grantees would be required to coordinate with the ABA and other agencies in sponsoring the conference.

Discussion: NIDRR has decided to withdraw the proposed requirement that BMS Centers budget to support a state-of-the-science conference. Instead, NIDRR is adding language to paragraph (d) of the priority that suggests including a state-of-the-science meeting as one possible means of collaboratively conducting knowledge translation activities that might be used to disseminate research findings from the BMS Centers program. BMS Centers have the freedom to determine the amount of funds that they might set aside for such activities, including any activities in conjunction with the MSKT Center.

Changes: NIDRR has removed the requirement stated in proposed paragraph (e). It has added language to paragraph (d) of the priority to identify state-of-the-science meetings as one means of facilitating dissemination of research findings to stakeholders.

Comment: Three commenters requested clarification regarding proposed paragraph (f) of the priority, which required that grantees address the needs of individuals with burn injuries, including individuals from one or more traditionally underserved populations. The commenters requested clarification from NIDRR regarding the types of individuals that are included in the category “traditionally underserved populations” and whether activities that address the clinical needs of these persons are subject to funding under this priority.

Discussion: Paragraph (f) of the proposed priority (redesignated as paragraph (e) in the final priority) requires each BMS Center to address the needs of individuals with burn injuries, including individuals from one or more traditionally underserved populations through its project. The Rehabilitation Act authorizes the research activities that are administered by NIDRR, including the research activities under the BMS Centers program. While section 21 of the Rehabilitation Act, titled Traditionally Underserved Populations, does not define the term “traditionally underserved,” it does provide an in-depth discussion of populations that experience inequitable treatment and poor outcomes in the vocational rehabilitation process. Section 21 of the Rehabilitation Act specifically mentions groups of racial and ethnic minorities with disabilities, including Latinos, African Americans, Asian Americans, and American Indians with disabilities. For purposes of this priority, we expect applicants to describe how they will fulfill the priority's requirement to address the needs of individuals with burn injuries from traditionally underserved populations, as that term is described in section 21 of the Rehabilitation Act. The peer review process will evaluate the merits of each application.

With regard to the question concerning clinical services to individuals with burn injuries from traditionally underserved populations, we note that NIDRR program funds are used to sponsor research and development activities and, therefore, can only be used to support clinical services that constitute a part of the research process. For example, the provision of treatment as part of a clinical trial, or the development of consumer education materials as part of an evidence-based knowledge translation process are allowable research activities for which grant funds under this priority may be used.

Changes: With the removal of proposed paragraph (e) of the priority, NIDRR has redesignated proposed paragraph (f) final paragraph (e). In addition, we have revised this paragraph to include a cross-reference to the Rehabilitation Act's discussion of traditionally underserved populations.

Comment: Two commenters requested guidance regarding proposed paragraph (g) of the priority, which required that grantees ensure that input of individuals with burn injuries is used to shape BMS research activities. Specifically, the commenters asked NIDRR to clarify the scope of the activities it expects grantees to engage in to meet this proposed requirement as well as the corresponding budget for these activities. In addition, one commenter requested that NIDRR specify the potential collaborators, such as the Phoenix Society, with which grantees could work with to carry out these activities.

Discussion: It is NIDRR's intent that input from persons with burn injuries will inform all research conducted under the BMS Centers program. This includes the site-specific research to be conducted under paragraph (c) of this priority and the research conducted by the system of BMS Centers through the BMS database. For purposes of this priority, each applicant is expected to describe in its application the activities it will conduct to ensure that input from persons with burn injuries shape its site-specific research project or projects. NIDRR allows applicants the flexibility to determine the budget required to implement these activities. NIDRR also allows applicants the flexibility to determine the methods it will use for receiving input from consumers.

With respect to specifying potential collaborators, such as the Phoenix Society, we decline to do so because NIDRR does not have a sufficient basis for requiring all applicants to collaborate with the Phoenix Society. However, applicants are free to propose such a collaboration.

Changes: We have redesignated paragraph (g) of the proposed priority to paragraph (f).

Comment: One commenter recommended that we revise the priority to clarify that applicants must budget for travel to and participation in the face-to-face BMS project directors' meeting, and to participate in the regularly scheduled conference calls of the BMS project directors.

Discussion: In keeping with prior practice, NIDRR expects the Project Directors of the BMS Centers to participate in two Project Directors' meetings per year (one to be held in the greater Washington, DC and one in conjunction with the annual ABA Conference). Applicants must budget for the costs of having their project directors travel to and participate in these meetings. NIDRR also expects BMS project directors to participate in regularly scheduled conference calls of this group. The purpose of these meetings is to establish policies and procedures with NIDRR input for BMS activities, to share research findings across the BMS program, to facilitate NIDRR program officer knowledge of the progress on grant activities, to discuss database issues, and to foster successful development of the BMS program.

Changes: NIDRR has added paragraph (g) to the priority. This new paragraph states that the BMS Center must ensure that its project director participates in the following:

(1) Two annual face-to-face BMS Center Project Director meetings, one of which will take place in the greater Washington, DC area and once in conjunction with the annual ABA Convention.

(2) Additional meetings of the BMS Center Project Directors that are held on a regular basis via conference call.

Comment: One commenter asked whether the BMS Centers would be required to engage in a collaborative module research project. The commenter recommended that such a project be funded under a separate program priority.

Discussion: Grantees under the BMS Centers priority are not required to engage in a collaborative module research project.

Changes: None.

Final Priority

Priority—Burn Model Systems (BMS) Centers

The Assistant Secretary for Special Education and Rehabilitative Services announces a priority for the funding of Burn Model Systems Centers (BMS Centers). The BMS Centers must provide comprehensive, multidisciplinary services to individuals with burn injury and conduct research that contributes to evidence-based rehabilitation interventions and clinical and practice guidelines. The BMS Centers must generate new knowledge that can be used to improve outcomes of individuals with burn injury in one or more domains identified in NIDRR's currently approved Long Range Plan, published in the Federal Register on February 15, 2006 (71 FR 8166): health and function, participation and community living, technology, and employment. Each BMS Center must contribute to this outcome by—

(a) Providing a multidisciplinary system of rehabilitation care specifically designed to meet the needs of individuals with burn injury, including but not limited to, physical, psychological, and community reintegration needs. The system must encompass a continuum of care, including emergency medical services, acute care services, acute medical rehabilitation services, and post-acute services;

(b) Continuing the assessment of long-term outcomes of individuals with burn injury by enrolling at least 30 subjects per year into the BMS database,¹ and collecting follow-up data on all subjects enrolled in the database at 6 months, and at 1, 2, 5, and 10 years post injury (as is being done in the current grant cycle) and extending the assessment to every five years thereafter, following standard operating procedures and practices established by the BMS Project Directors in conjunction with the National Data and Statistical Center for the BMS and the established protocols for the collection of enrollment and follow-up data on subjects;

¹ The BMS database is a centralized database through which BMS Centers have collected and contributed information on common data elements on outcomes of individuals since 1998. The BMS database is maintained through a separate NIDRR-funded grant for a National Data and Statistical Center for the BMS. (Additional information on the BMS database can be found at http://bms-dcc.ucdenver.edu/).

Note: BMS Centers will be funded at varying amounts up to the maximum award based on the numbers of BMS database participants from whom BMS Centers must collect follow-up data. To the extent a grantee under a competition using this priority was previously funded under the BMS program, that grantee must also, as part of this grant, collect follow-up data from subjects who were enrolled in the BMS database in previous grant cycles. For this reason, NIDRR requests that each applicant under this priority initially budget for the activities required under paragraph (b) based on the number of follow-up assessments it expects during the project period. BMS Centers that have previously been BMS grantees with large numbers of database participants will receive more funding within the specified range than BMS Centers with fewer participants, as determined by NIDRR after applicants are selected for funding. Applicants must include in their budgets specific estimates of their costs for follow-up data collection. Funding will be determined individually for each successful applicant, up to the maximum allowed, based upon the documented workload associated with the follow-up data collection, other costs of the grant, and the overall budget of the research project.

(c) Proposing and conducting at least one, but no more than two, site-specific research projects to test interventions for treating burn injury or to conduct other types of research, including but not limited to, descriptive research, exploratory research, or measures development that can contribute to development or measurement of interventions. Site-specific research projects must contribute to outcomes in one or more domains identified in the Plan: health and function, community living and participation, technology, and employment;

Note: Applicants who propose more than two site-specific research projects will be disqualified. Site-specific research projects may include collaborating with entities as needed for execution of the research project.

(d) Coordinating with the NIDRR-funded Model Systems Knowledge Translation Center (MSKTC) (http://www.msktc.org/) to provide scientific results and information for dissemination to clinical and consumer audiences, using a variety of mechanisms that could include state-of-the-science meetings, webinars, Web sites, and other dissemination methods;

(e) Addressing the needs of individuals with burn injuries, including individuals from one or more traditionally underserved populations, as discussed in section 21 of the Act, 29 U.S.C. 718;

(f) Ensuring that the input of individuals with burn injuries is used to shape BMS research activities; and

(g) Ensuring that its project director participates in the following:

(1) Two annual face-to-face BMS Center Project Director meetings, one of which will take place in the greater Washington, DC area and once in conjunction with the annual American Burn Association Convention.

(2) Additional meetings of the BMS Center Project Directors that are held on a regular basis via conference call.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority only on a reasoned determination that its benefits justify its costs. In choosing among alternative regulatory approaches, we selected those approaches that maximize net benefits. Based on the analysis that follows, the Department believes that this regulatory action is consistent with the principles in Executive Order 13563.

We also have determined that this regulatory action does not unduly interfere with State, local, and Tribal governments in the exercise of their governmental functions.

In accordance with both Executive orders, the Department has assessed the potential costs and benefits, both quantitative and qualitative, of this regulatory action. The potential costs are those resulting from statutory requirements and those we have determined as necessary for administering the Department's programs and activities.

Summary of Potential Costs and Benefits

The benefits of the Disability and Rehabilitation Research Projects and Centers Programs have been well established over the years in that similar projects have been completed successfully. This final priority will generate new knowledge through research and development.

Another benefit of the final priority is that establishing new DRRPs will improve the lives of individuals with disabilities. The new DRRPs will provide support and assistance for NIDRR grantees as they generate, disseminate, and promote the use of new information that will improve the options for individuals with disabilities to perform regular activities of their choice in the community.

Accessible Format: Individuals with disabilities can obtain this document in an accessible format (e.g., braille, large print, audiotape, or compact disc) by contacting the Grants and Contracts Services Team, U.S. Department of Education, 400 Maryland Avenue SW., room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: June 15, 2012.
Alexa Posny,
Assistant Secretary for Special Education and Rehabilitative Services.

[FR Doc. 2012-15051 Filed 6-19-12; 8:45 am]

BILLING CODE 4000-01-P